SMALL BUSINESS ADMINISTRATION

[License No. 04/04-0325]

Plexus Fund QP III, L.P.; Notice Seeking Exemption Under Section 312 of the Small Business Investment Act, Conflicts of Interest

Notice is hereby given that Plexus Fund QP III, L.P., 200 Providence Road, Suite 210, Charlotte, NC 28207, a Federal Licensee under the Small Business Investment Act of 1958, as amended (“the Act”), in connection with the financing of Mission Critical Electronics, Inc., 2911 West Garry Avenue, Santa Ana, CA 92704, has sought an exemption under Section 312 of the Act and 13 CFR 107.730 financings which constitute conflicts of interest of the Small Business Administration (“SBA”) Rules and Regulations. Plexus Fund QP III, L.P. proposes to provide debt financing to Mission Critical Electronics, Inc., that will be used to discharge an obligation to Plexus Fund II, L.P., an associate. Therefore this transaction is considered a conflict of interest requiring SBA's prior written exemption.

Notice is hereby given that any interested person may submit written comments on the transaction, within fifteen days of the date of this publication, to the Associate Administrator for Investment, U.S. Small Business Administration, 409 Third Street SW., Washington, DC 20416.

Mark Walsh,
Associate Administrator for Office of Investment and Innovation.

[FR Doc. 2016-06879 Filed 3-25-16; 8:45 am]

BILLING CODE P